COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date deleted from the Procurement List: July 20, 2025

ADDRESSES: Committee for Purchase From People Who Are Blind or Severely Disabled, 355 E Street SW, Suite 325, Washington, DC 20024.

FOR FURTHER INFORMATION CONTACT: For further information or to submit comments contact: Michael R. Jurkowski, Telephone: (703) 489-1322 or email CMTEFedReg@AbilityOne.gov.

SUPPLEMENTARY INFORMATION:

Deletions

On 5/16/2025 (90 FR 21013), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 5340-00-NIB-0002—Key Blank, Standard, USPS

Authorized Source of Supply: MISSISSIPPI INDUSTRIES FOR THE BLIND (INC), Jackson, MS

Contracting Activity: U.S. Postal Service, Washington, DC, Washington, DC

NSN(s)—Product Name(s): 8105-00-NIB-1412—Aquapad Sand-less Sandbag

Authorized Source of Supply: Envision, Inc., Wichita, KS

Contracting Activity: DLA TROOP SUPPORT, PHILADELPHIA, PA

NSN(s)—Product Name(s):

8465-01-630-6365—Reflective Safety Belt, ARMY, Adjustable 31″ to 55″, Gold/Black

8465-01-630-6371—Reflective Safety Belt, NAVY, Adjustable 31″ to 55″, Silver/Black

8465-01-630-6375—Reflective Safety Belt, AIR FORCE, Adjustable 31″ to 55″, Silver/Blue

8465-01-630-6915—Reflective Safety Belt, USMC, Adjustable 31″ to 55″, Amber/Scarlet

Authorized Source of Supply: Envision, Inc., Wichita, KS

Contracting Activity: DLA TROOP SUPPORT, PHILADELPHIA, PA

NSN(s)—Product Name(s):

7510-01-682-8095—Monthly Planner, Recycled, Dated 2025, 14-month, 6⅞″ x 8¾″

7510-01-682-8105—Professional Planner, Dated 2025, Recycled, Weekly, Black, 8½″ x 11″

7530-01-693-5566—Weekly Planner Book, Dated 2025, 5″ x 8″, Black

7530-01-693-5573—Monthly Desk Planner, Dated 2025, Wire Bound, Non-refillable, Black Cover

7530-01-693-5581—Weekly Desk Planner, Dated 2025, Wire Bound, Non-refillable, Black Cover

7530-01-693-5598—Daily Desk Planner, Dated 2025, Wire bound, Non-refillable, Black Cover

7510-01-682-8101—Wall Calendar, Recycled, Dated 2025, Vertical, 3 Months, 12¼″ x 26″

7510-01-693-5078—Monthly Wall Calendar, Dated 2025, Jan-Dec, 8½″ x 11″

7510-01-693-5084—Wall Calendar, Dated 2025, Wire Bound w/hanger, 15.5″ x 22″

7510-01-693-5098—Wall Calendar, Dated 2025, Wire Bound w/Hanger, 12″ x 17″

7510-01-695-6113—Dated 2025 12-Month 2-Sided Laminated Wall Planner, 24″ x 37″

Authorized Source of Supply: Chicago Lighthouse Industries, Chicago, IL

Contracting Activity: GSA/FAS ADMIN SVCS ACQUISITION BR(2, NEW YORK, NY

Service(s)

Service Type: Janitorial/Custodial

Mandatory for: Department of Veterans Affairs, VA Northern California Health Care System, Fairfield Outpatient Clinic, 103 Bodin Circle, Building 778, Travis AFB, CA

Authorized Source of Supply: Easter Seal Society of Superior California, Sacramento, CA

Contracting Activity: VETERANS AFFAIRS, DEPARTMENT OF, 261-NETWORK CONTRACT OFC21 (00261)

Service Type: Administrative Service

Mandatory for: National Park Service, Harpers Ferry Center, 67 Mather Place, Harpers Ferry, WV

Authorized Source of Supply: Hagerstown Goodwill Industries, Inc., Hagerstown, MD

Contracting Activity: NATIONAL PARK SERVICE, WASHINGTON CONTRACTING OFFICE

Service Type: Janitorial/Grounds Maintenance

Mandatory for: Veterans Administration, VA Northern California Health Care, Mare Island Outpatient Clinic, Walnut Avenue, Vallejo, CA

Authorized Source of Supply: Easter Seal Society of Superior California, Sacramento, CA

Contracting Activity: VETERANS AFFAIRS, DEPARTMENT OF, 261-NETWORK CONTRACT OFC21 (00261)

Service Type: Food Service Attendant

Mandatory for: US Air Force, Minnesota Air National Guard, 133rd Airlift Wing, Base Dining Facility, 642 Hercules Avenue, St. Paul, MN

Authorized Source of Supply: AccessAbility, Inc., Minneapolis, MN

Contracting Activity: DEPT OF THE ARMY, W7NG USPFO ACTIVITY MN ARNG

Service Type: Mailroom Operation

Mandatory for: Department of Health and Human Services, Hubert H. Humphrey Building, 200 Independence Avenue SW, Washington, DC

Authorized Source of Supply: Didlake, Inc., Manassas, VA

Contracting Activity: OFFICE OF THE ASSISTANT SECRETARY FOR ADMINISTRATION (ASA), PROGRAM SUPPORT CENTER ACQ MGMT SVC

Service Type: Mailroom Operation

Mandatory for: Department of Health and Human Services, Mary E. Switzer Building, 330 C Street SW, Washington, DC

Authorized Source of Supply: Didlake, Inc., Manassas, VA

Contracting Activity: OFFICE OF THE ASSISTANT SECRETARY FOR ADMINISTRATION (ASA), PROGRAM SUPPORT CENTER ACQ MGMT SVC

Service Type: Mailroom Operation

Mandatory for: Department of Health and Human Services, Wilbur J. Cohen Building, 330 Independence Avenue SW, Washington, DC

Authorized Source of Supply: Didlake, Inc., Manassas, VA

Contracting Activity: OFFICE OF THE ASSISTANT SECRETARY FOR ADMINISTRATION (ASA), PROGRAM SUPPORT CENTER ACQ MGMT SVC

Michael R. Jurkowski,
Director, Business Operations.

[FR Doc. 2025-11215 Filed 6-17-25; 8:45 am]

BILLING CODE 6353-01-P